DEPARTMENT OF TRANSPORTATION

Surface Transportation Board

[STB Ex Parte No. 670 (Sub—No. 2)]

Notice of Rail Energy Transportation Advisory Committee Vacancies

AGENCY: Surface Transportation Board, Department of Transportation.

ACTION: Notice of vacancies on Federal Advisory Committee and solicitation of nominations.

SUMMARY: The Surface Transportation Board (Board), hereby gives notice of two vacancies on the Board's Rail Energy Transportation Advisory Committee (RETAC): (1) A representative of a Class II or III railroad and (2) a representative of a biofuel refiner, processor, or distributor, or biofuel feedstock grower or provider. The Board is soliciting suggestions for candidates to fill those vacancies.

DATES: Suggestions of candidates for membership on RETAC are due July 31, 2009.

ADDRESSES: Suggestions may be submitted either via the Board's e-filing format or in the traditional paper format. Any person using e-filing should attach a document and otherwise comply with the instructions at the E-FILING link on the Board's Web site, at http://www.stb.dot.gov. Any person submitting a filing in the traditional paper format should send an original and 10 copies to: Surface Transportation Board, Attn: STB Ex Parte No. 670, 395 E Street, SW., Washington, DC 20423-0001.

FOR FURTHER INFORMATION CONTACT: Scott M. Zimmerman at 202-245-0202. Assistance for the hearing impaired is available through the Federal Information Relay Service (FIRS) at 1-800-877-8339.

SUPPLEMENTARY INFORMATION: The Board, created by Congress in 1996 to take over many of the functions previously performed by the Interstate Commerce Commission, exercises broad authority over transportation by rail carriers, including regulation of railroad rates and service (49 U.S.C. 10701-10747, 11101-11124), as well as the construction, acquisition, operation, and abandonment of rail lines (49 U.S.C. 10901-10907) and railroad line sales, consolidations, mergers, and common control arrangements (49 U.S.C. 10902, 11323-11327).

In 2007, the Board established RETAC as a Federal advisory committee consisting of a cross-section of energy and rail industry stakeholders to provide independent, candid policy advice to the Board and to foster open, effective communication among the affected interests on issues such as rail performance, capacity constraints, infrastructure planning and development, and effective coordination among suppliers, carriers, and users of energy resources.

RETAC's membership is a balanced representation of interested and affected parties, consisting of not less than: 5 representatives from the Class I railroads, 3 representatives from Class II and III railroads, 3 representatives from coal producers, 5 representatives from electric utilities (including at least one rural electric cooperative and one state- or municipally-owned utility), 4 representatives from biofuel refiners, processors, or distributors, or biofuel feedstock growers or providers, and 2 representatives from private car owners, car lessors, or car manufacturers. RETAC may also include up to 3 members with relevant experience but not necessarily affiliated with one of the aforementioned industries or sectors. Members are selected by the Chairman of the Board with the concurrence of a majority of the Board. The Chairman of the Board may invite representatives from the U.S. Departments of Agriculture, Energy and Transportation and the Federal Energy Regulatory Commission to serve on RETAC in advisory capacities as ex officio (non-voting) members, and Board members serve as ex officio members of the Committee as well.

RETAC functions solely as an advisory body, in compliance with the Federal Advisory Committee Act and its implementing regulations. RETAC typically meets four times per year, at the Board's headquarters in Washington, DC. No honoraria, salaries, travel or per diem are available to members of the RETAC; however, reimbursement for travel expenses may be sought from the Board in cases of hardship.

Two vacancies currently exist for 3-year terms on RETAC beginning September 1, 2009: (1) A representative of a Class II or III railroad, and (2) a representative of a biofuel refiner, processor, or distributor, or biofuel feedstock grower or provider. Suggestions for members to fill those vacancies should be submitted in letter form, identifying the name of the candidate and the entity the candidate would represent, and a representation that the candidate is willing to serve a 3-year term as a member of the RETAC beginning in the Fall of 2009. Suggestions for candidates for membership on RETAC should be filed with the Board by July 31, 2009.

This action will not significantly affect either the quality of the human environment or the conservation of energy resources.

Authority: 49 U.S.C. 721, 49 U.S.C. 11101; 49 U.S.C. 11121.

Decided: July 16, 2009.
By the Board, Anne K. Quinlan, Acting Secretary.
Jeffrey Herzig,
Clearance Clerk.

[FR Doc. E9-17309 Filed 7-21-09; 8:45 am]

BILLING CODE 4915-01-P